NATIONAL COMMISSION ON TERRORIST ATTACKS UPON THE UNITED STATES

Public Hearing

ACTION: Notice of public hearing.

SUMMARY: The National Commission on Terrorist Attacks Upon the United States will hold its seventh public hearing on January 26-27, 2004 in Washington, DC. The two-day investigative hearing will develop facts and circumstances relating to border and aviation security—two central aspects of the Commission's mandate. Representatives of the media should register in advance of the hearing by visiting the Commission's Web site at www.9-11commission.gov. Seating for the general public will be on a first-come, first-served basis. Press availability will occur at the conclusion of the hearing.

DATE: January 26-27, 2004, 9 a.m. to 5 p.m. Press availability to follow.

Location: Hart Senate Office Building, Room 216, Washington, DC 20510.

FOR FURTHER INFORMATION CONTACT: Al Felzenberg, (202) 401-1725 or (202) 236-4878 (cellular).

SUPPLEMENTARY INFORMATION: Please refer to Public Law 107-306 (November 27, 2003), title VI (Legislation creating the Commission), and the Commission's Web site: www.9-11commission.gov.

Dated: January 15, 2004.
Philip Zelikow,
Executive Director.

[FR Doc. 04-1425 Filed 1-22-04; 8:45 am]

BILLING CODE 8800-01-M